DEPARTMENT OF ENERGY

Federal Energy Regulatory Commission

[Docket No. CP21-4-000]

Transwestern Pipeline Company, LLC; Notice of Schedule for the Preparation of an Environmental Assessment for the Linam Ranch Project

On October 8, 2020, Transwestern Pipeline Company, LLC (Transwestern) filed an application in Docket No. CP21-4-000 requesting an Authorization pursuant to Section 7(b) of the Natural Gas Act to abandon certain natural gas pipeline facilities. The proposed project is known as the Linam Ranch Project (Project) and would result in the abandonment of natural gas facilities located in Lea County, New Mexico. Transwestern states that the facilities have no firm transportation agreements and that maintenance expenses are excessive and cannot be recovered by its current revenue stream.

On October 23, 2020, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—March 19, 2021

90-day Federal Authorization Decision Deadline—June 17, 2021

If a schedule change becomes necessary, additional notice will be provided so that the relevant agencies are kept informed of the Project's progress.

Project Description

Transwestern proposes to abandon in-place the Linam Ranch meter station and approximately 2,446 feet of associated 10-inch-diameter natural gas transmission pipeline, both of which are located in Lea County, New Mexico.

Background

On November 13, 2020, the Commission issued a Notice of Scoping Period Requesting Comments on Environmental Issues for the Proposed Linam Ranch Project (Notice of Scoping). The Notice of Scoping was sent to affected landowners; federal, state, and local government agencies; elected officials; environmental and public interest groups; Native American tribes; and other interested parties. In response to the Notice of Scoping, the Commission received comments from the National Park Service (stating its support for the proposed abandonment. The National Park Service comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-4), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 3, 2021.
Kimberly D. Bose,
Secretary.

[FR Doc. 2021-02625 Filed 2-8-21; 8:45 am]

BILLING CODE 6717-01-P